DEPARTMENT OF LABOR

Employment & Training Administration

[SGA-DFA-PY-10-03]

Solicitation for Grant Applications (SGA); Trade Adjustment Assistance Community College and Career Training Grants Program; Amendment Three

AGENCY: Employment and Training Administration (ETA), Labor.

ACTION: Notice: Amendment to SGA/DFA PY 10-03.

SUMMARY: The Employment and Training Administration published a notice in the Federal Register on January 21, 2011, announcing the availability of funds and Solicitation for Grant Applications (SGA) for the Trade Adjustment Assistance Community College and Career Training grant program (TAACCCT) to be awarded through a competitive process. This amendment to the SGA clarifies items related to making portions of grant applications publicly available. The document is hereby amended.

In Section IIIG3, of the solicitation (http://www.doleta.gov/grants/pdf/SGA-DFA-PY-10-03.pdf), the following text should be replaced:

Old Text—“The Department is committed to conducting a transparent grant award process and publicizing information about program outcomes. Applicants are advised their application and information related to its review and evaluation (whether or not the application is successful) may be made publicly available, either fully or partially. In addition, information about grant progress and results may also be made publicly available.”

New Text—“The Department is committed to conducting a transparent grant application and award process. Among other things, posting grant applications on public Web sites is a means of promoting and sharing innovative ideas. For this grant competition, we will publish the Technical Proposal required by Section IVB, Part II for all those applications that are awarded grants, on the Department's Web site or a similar location. Additionally, in accordance with Section IVB, Part IIIa, of the SGA, which states that the Abstracts will be shared publicly, we will publish the Abstracts for all applications on the Department's Web site or similar location. No other attachments to the application will be published. The Technical Proposals and Abstracts will not be published until after grants are awarded.”

DOL recognizes that grant applications sometimes contain information that an applicant may consider proprietary or business confidential, or they may contain personally identifiable information. Information is considered proprietary or confidential commercial/business information when it is not usually disclosed outside your organization, and when its disclosure is likely to cause you substantial competitive harm. Personally identifiable information is information that can be used to distinguish or trace an individual's identity, such as a name, social security number, date and place of birth, mother's maiden name, or biometric records, or any other information that is linked or linkable to an individual, such as medical, educational, financial, and employment information.

In order to ensure that such information is properly protected from disclosure when DOL posts the winning Technical Proposals, applicants whose technical proposals will be posted will be asked to submit a second redacted version of their Technical Proposal, with proprietary, confidential commercial/business, and personally identifiable information redacted. All non-public information about the applicant's and consortium members' staff (if applicable) should be removed as well. The Department will contact the applicants whose technical proposals will be published by letter or email, and provide further directions about how and when to submit the redacted version of the Technical Proposal. Submission of a redacted version of the Technical Proposal will constitute permission by the applicant, and anyone identified in the application, for DOL to post that redacted version. If an applicant fails to provide a redacted version of the Technical Proposal, DOL will publish the original Technical Proposal in full, after redacting personally identifiable information. (Note that the original, unredacted version of the Technical Proposal will remain part of the complete application package, including an applicant's proprietary and confidential information and any personally identifiable information.)

Applicants are encouraged to maximize the grant application information that will be publicly disclosed, and to exercise restraint and redact only information that truly is proprietary, confidential commercial/business information, or capable of identifying a person. The redaction of entire pages or sections of the Technical Proposal is not appropriate, and will not be allowed, unless the entire portion merits such protection. Should a dispute arise about whether redactions are appropriate, DOL will follow the procedures outlined in the Department's Freedom of Information Act (FOIA) regulations (29 CFR part 70).

Redacted information in grant applications will be protected by DOL from public disclosure in accordance with Federal law, including the Trade Secrets Act (18 U.S.C. 1905), FOIA, and the Privacy Act (5 U.S.C. 552a). If DOL receives a FOIA request for your application, the procedures in DOL's FOIA regulations for responding to requests for commercial/business information submitted to the government will be followed, as well as all FOIA exemptions and procedures. 29 CFR 70.26. Consequently, it is possible that application of FOIA rules may result in release of information in response to a FOIA request that an applicant redacted in its “redacted copy.”

The Department is working with OMB to meet the requirements of the Paperwork Reduction Act of 1965 (PRA), and will not require any applicants to submit any redactions until the PRA process has been completed. The public reporting burden for this collection of information is tentatively estimated at six hours per response.”

FOR FURTHER INFORMATION CONTACT: Melissa Abdullah, Grants Management Specialist, Division of Federal Assistance, at (202) 693-3346.

Signed at Washington, DC, this 14th day of April 2011.
Donna Kelly,
Grant Officer, Employment & Training Administration.

[FR Doc. 2011-9514 Filed 4-19-11; 8:45 am]

BILLING CODE 4510-FN-P